FEDERAL TRADE COMMISSION

SES Performance Review Board

AGENCY: Federal Trade Commission.

ACTION: Notice.

SUMMARY: Notice is hereby given of the appointment of members to the FTC Performance Review Board.

FOR FURTHER INFORMATION CONTACT: Karen Leydon, Chief Human Capital Officer, 600 Pennsylvania Avenue NW., Washington, DC 20580, (202) 326-3633.

SUPPLEMENTARY INFORMATION: Publication of the Performance Review Board (PRB) membership is required by 5 U.S.C. 4314 (c)(4). The PRB reviews and evaluates the initial appraisal of a senior executive's performance by the supervisor, and makes recommendations regarding performance ratings, performance awards, and pay-for-performance pay adjustments to the Chairman.

The following individuals have been designated to serve on the Commission's Performance Review Board: Eileen Harrington, Executive Director, Chair; Willard K. Tom, General Counsel; Pauline M. Ippolito, Deputy Director, Bureau of Economics; Richard A. Feinstein, Director, Bureau of Competition; Mary K. Engle, Associate Director, Bureau of Consumer Protection.

By direction of the Commission.
Donald S. Clark,
Secretary.

[FR Doc. 2012-13619 Filed 6-5-12; 8:45 am]

BILLING CODE 6750-01-M